DEPARTMENT OF THE TREASURY

Customs Service

[T.D. 00-64]

Cancellation of Customs Broker Licenses

AGENCY: Customs Service, Department of the Treasury.

ACTION: Broker license cancellations.

I, as Assistant Commissioner of Customs, Office of Field Operations, pursuant to section 641(f) Tariff Act of 1930, as amended (19 U.S.C. 1641(f)) and section 111.51(a) of the Customs Regulations (19 111.51(a)), hereby cancel the following Customs brokers licenses due to the deaths of the license holders.

Name, Port, and License No.

Manuel A. Enciso, Nogales, 01981

George Flandorffer, Jr., New York, 03598

Dated: September 27, 2000.
Bonni G. Tischler,
Assistant Commissioner, Office of Field Operations.

[FR Doc. 00-25583 Filed 10-4-00; 8:45 am]

BILLING CODE 4820-02-P